NATIONAL MEDIATION BOARD

29 CFR Part 1210

Administration of Arbitration Programs

AGENCY: National Mediation Board.

ACTION: Notice of proposed rulemaking.

SUMMARY: The National Mediation Board (NMB) is extending the public comment period for receipt of comments on its notice of proposed rulemaking entitled “Administration of Arbitration Programs” that was published in the Federal Register on August 9, 2004 (69 FR 48177).

DATES: Comments must be in writing and must be received by September 20, 2004.

ADDRESSES: Submit written comments to: Roland Watkins, Director of Arbitration/NRAB Administrator, National Mediation Board, 1301 K Street, NW., Suite 250—East, Washington, DC 20005. Attn: NMB Docket No. 2003-01N. You may submit your comments via letter, or electronically through the Internet to the following address: arb@nmb.gov. If you submit your comments electronically, please put the full body of your comments in the text of the electronic message and also as an attachment readable in MS Word. Please include your name, title, organization, postal address, telephone number, and e-mail address in the text of the message. Comments may also be submitted via facsimile to (202) 692-5086. Please cite NMB Docket No. 2003-01N in your comment.

FOR FURTHER INFORMATION CONTACT: Roland Watkins, NRAB Administrator, 1301 K Street, NW., Suite 250 East, Washington, DC 20005 (telephone: 202-692-5000).

SUPPLEMENTARY INFORMATION: On Monday, August 8, 2004, the National Mediation Board published a notice of proposed rulemaking requesting public comment on the Board's proposal to establish a new Part 1210 in its rules concerning the “Administration of Arbitration Programs—National Railroad Adjustment Board (NRAB), Public Law Boards (PLBs) and Special Boards of Adjustment (SBAs) (69 FR 48177). The closing date for receipt of public comments was September 8, 2004.

After further consideration, the Board is extending the comment period by twelve (12) days. Therefore, the closing date for receipt of public comments is now September 20, 2004.

June D.W. King,
Acting National Railroad Adjustment Board Administrator.

[FR Doc. 04-19878 Filed 8-31-04; 8:45 am]

BILLING CODE 7550-01-P